NATIONAL AERONAUTICS AND SPACE ADMINISTRATION

[Notice: 17-018]

NASA Astrophysics Advisory Committee; Meeting

AGENCY: National Aeronautics and Space Administration.

ACTION: Notice of meeting.

SUMMARY: In accordance with the Federal Advisory Committee Act, as amended, the National Aeronautics and Space Administration (NASA) announces a meeting of the Astrophysics Advisory Committee. This Committee reports to the Director, Astrophysics Division, Science Mission Directorate, NASA Headquarters. The meeting will be held for the purpose of soliciting, from the scientific community and other persons, scientific and technical information relevant to program planning.

DATES: Monday, April 24, 2017, 9:30 a.m.-5:00 p.m.; and Tuesday, April 25, 2017, 8:30 a.m.-5:00 p.m., Local Time.

ADDRESSES: NASA Headquarters, Room 3H42, 300 E Street SW., Washington, DC 20546.

FOR FURTHER INFORMATION CONTACT: Ms. KarShelia Henderson, Science Mission Directorate, NASA Headquarters, Washington, DC 20546, (202) 358-2355, fax (202) 358-2779, or khenderson@nasa.gov.

SUPPLEMENTARY INFORMATION: The meeting will be open to the public up to the capacity of the room. The meeting will be available telephonically and by WebEx. You must use a touch-tone phone to participate in this meeting. Any interested person may dial the USA toll free conference call number 1-888-790-3531 or toll number 1-210-234-0035, passcode 7238462 followed by the # sign, to participate in this meeting by telephone on both days. The WebEx link is https://nasa.webex.com/; the meeting number on April 24 is 999 766 498, password is APAC24-25; and the meeting number on April 25 is 997 182 323, password is APAC24-25.

The agenda for the meeting includes the following topics:

—Astrophysics Division Update

—Updates on Specific Astrophysics Missions

—Reports from the Program Analysis Groups

—Reports from Specific Research and Analysis Programs

The agenda will be posted on the Astrophysics Advisory Committee Web page at https://science.nasa.gov/researchers/nac/science-advisory-committees/apac. Attendees will be requested to sign a register and to comply with NASA Headquarters Security requirements, including the presentation of a valid picture ID to Security before access to NASA Headquarters. Due to the Real ID Act, any attendees with driver's licenses issued from non-compliant states must present a second form of ID. Non-compliant states are: Maine, Minnesota, Missouri, and Montana. Foreign nationals attending this meeting will be required to provide a copy of their passport and visa in addition to providing the following information no less than 10 days prior to the meeting: full name; gender; date/place of birth; citizenship; passport information (number, country, telephone); visa information (number, type, expiration date); employer/affiliation information (name of institution, address, country, telephone); title/position of attendee. To expedite admittance, attendees with U.S. citizens and Permanent Residents (green card holders) are requested to provide full name and citizenship status 3 working days in advance. Information should be sent to Ms. KarShelia Henderson, via email at khenderson@nasa.gov or by fax at (202) 358-2779. It is imperative that the meeting be held on this date to accommodate the scheduling priorities of the key participants.

Patricia D. Rausch,
Advisory Committee Management Officer, National Aeronautics and Space Administration.

[FR Doc. 2017-07152 Filed 4-10-17; 8:45 am]

BILLING CODE 7510-13-P